DEPARTMENT OF THE INTERIOR

Office of the Secretary

DEPARTMENT OF AGRICULTURE

Office of the Secretary

Establishment of the Wildlife and Hunting Heritage Conservation Council

AGENCY: Office of the Secretary, Interior; Office of the Secretary, Agriculture.

ACTION: Notice of establishment.

SUMMARY: The Secretary of the Interior and the Secretary of Agriculture establish the Wildlife and Hunting Heritage Conservation Council (Council). The Council will provide advice on wildlife and habitat conservation endeavors that (1) benefit recreational hunting; (2) benefit wildlife resources; and (3) encourage partnerships among the public, the sporting conservation community, wildlife conservation groups, the States, Native American Tribes, and the Federal government. We are seeking nominations for individuals to be considered as Council members.

DATES: Written nominations must be received by March 8, 2010.

ADDRESSES: Send nominations to: Bruce Decker, Chief, Division of Program and Partnership Support, External Affairs, U.S. Fish and Wildlife Service, 4501 N. Fairfax Drive, Mailstop EA-3103, Arlington, VA 22203.

FOR FURTHER INFORMATION CONTACT: Bruce Decker, Chief, Division of Program and Partnership Support, External Affairs, U.S. Fish and Wildlife Service, 4501 N. Fairfax Drive, Mailstop EA-3103, Arlington, VA 22203; 703-358-2521 (telephone).

SUPPLEMENTARY INFORMATION: This notice is published in accordance with the requirements of the Federal Advisory Committee Act (FACA) (5 U.S.C. App.). The Secretary of the Interior and Secretary of Agriculture certify that the formation of the Council is necessary and is in the public interest.

The Council will conduct its operations in accordance with the provisions of the FACA. It will report to the Secretary of the Interior and the Secretary of Agriculture through the Fish and Wildlife Service (Service), in consultation with the Director of the Bureau of Land Management; the Chief, U.S Forest Service; the Chief, Natural Resources Conservation Agency; and the Administrator of the Farm Services Bureau, and it will function solely as an advisory body. The Council's duties will consist of, but are not limited to, providing recommendations for:

(a) Implementing the Recreational Hunting and Wildlife Resource Conservation Plan—A Ten-Year Plan for Implementation;

(b) Increasing public awareness and support for the Sport Wildlife Trust Fund;

(c) Fostering wildlife and habitat conservation and ethics in hunting and shooting sports recreation;

(d) Stimulating sportsmen and women's participation in conservation and management of wildlife and habitat resources through outreach and education;

(e) Fostering communication and coordination among State and Federal Government, industry, hunting and shooting sportsmen and women, wildlife conservation and management organizations, native American Tribes, and the public;

(f) Providing appropriate access to hunting and recreational shooting on Federal lands; and

(g) Providing recommendations to improve implementation of Federal conservation programs that benefit wildlife, hunting and outdoor recreation on private lands.

The Council will meet approximately two times per year. The Secretary of the Interior and the Secretary of Agriculture will appoint members for 2-year terms. The Council will consist of no more than 18 members.

The following officials or their designated representatives will serve as ex officio members to the Council: Director, U.S. Fish and Wildlife Service; Director, Bureau of Land Management; Chief, U.S. Forest Service; Chief, Natural Resources Conservation Service; Administrator, Farm Services Bureau; and Executive Director, Association of Fish and Wildlife Agencies (AFWA) will serve as ex officio members to the Council.

The Secretaries will select remaining members from among, but not limited to, the national interest groups listed below. These members must be senior-level representatives of their organizations and/or have the ability to represent their designated constituency. No individual who is currently registered as a Federal lobbyist is eligible to serve as a member of the Council.

(1) State fish and wildlife resource management agencies (representatives to be recommended by the President of AFWA).

(2) Wildlife and habitat conservation/management organizations.

(3) Game bird hunting organizations.

(4) Waterfowl hunting organizations.

(5) Big game hunting organizations.

(6) Sportsmen and women community at-large.

(7) Archery, hunting, and/or shooting sports industry.

(8) Hunting and shooting sports outreach and education organizations.

(9) Tourism, Outfitter, and/or Guide industries related to hunting and/or shooting sports.

(10) Tribal resource management organizations.

We invite nomination of individuals for membership on the Council. Nominations should describe and document the proposed member's qualifications for membership to the Council, and include a resume listing their name, title, address, telephone, and fax number.

Certification

I hereby certify that the Wildlife and Hunting Heritage Conservation Council (Council) is necessary and is in the public interest in connection with the performance of duties imposed on the Department of the Interior and the Department of Agriculture under 43 U.S.C. 1457 and provisions of the Fish and Wildlife Act of 1956 (16 U.S.C. 742a-742j), the Federal Land Policy and Management Act of 1976 (43 U.S.C. 1701 et seq.), the National Forest Management Act of 1976 (16 U.S.C. 1600 et seq.), the National Wildlife Refuge System Improvement Act of 1997 (16 U.S.C. 668dd-668ee) and Executive Order 13443, Facilitation of Hunting Heritage and Wildlife Conservation.

Ken Salazar,
Secretary of the Interior.
Thomas J. Vilsack,
Secretary of Agriculture.

[FR Doc. 2010-2582 Filed 2-4-10; 8:45 am]

BILLING CODE 4310-55-P